SMALL BUSINESS ADMINISTRATION

[Declaration of Disaster #3455]

State of California

Los Angeles County and the contiguous counties of Kern, Orange, San Bernardino and Ventura in the State of California constitute a disaster area as a result of a wildfire that began on September 1, 2002 in a portion of the San Gabriel Canyon in the Angeles National Forest. The wildfire, known as the “Curve Fire”, consumed 20,857 acres and destroyed homes and personal property. The wildfire was fully contained on September 12, 2002. Applications for loans for physical damage as a result of this disaster may be filed until the close of business on December 23, 2002, and for economic injury until the close of business on July 22, 2003, at the address listed below or other locally announced locations:

U.S. Small Business Administration, Disaster Area 4 Office, P.O. Box 13795, Sacramento, CA 95853-4795.

The interest rates are:

| Percent
For Physical Damage:
Homeowners With Credit Available Elsewhere | 6.625
Homeowners Without Credit Available Elsewhere | 3.312
Businesses With Credit Available Elsewhere | 7.000
Businesses and Non-Profit Organizations Without Credit Available elsewhere: | 3.500
Others (Including Non-Profit Organizations) With Credit Available Elsewhere | 6.375
For Economic Injury:
Businesses and Small Agricultural Cooperatives Without Credit Available Elsewhere | 3.500

The number assigned to this disaster for physical damage is 345505 and for economic damage is 9R9900.

(Catalog of Federal Domestic Assistance Program Nos. 59002 and 59008)

Dated: October 22, 2002.
Hector V. Barreto,
Administrator.

[FR Doc. 02-27355 Filed 10-25-02; 8:45 am]

BILLING CODE 8025-01-P